DEPARTMENT OF TRANSPORTATION

National Highway Traffic Safety Administration

Partial Grant and Partial Denial of Motor Vehicle Defect Petition, DP01-003

AGENCY: National Highway Traffic Safety Administration (NHTSA), Department of Transportation.

ACTION: Partial grant and partial denial of petition for a defect investigation.

SUMMARY: This notice sets forth the reasons for the partial grant and partial denial of a petition submitted to NHTSA under 49 U.S.C. 30162, requesting that the agency commence a proceeding to determine the existence of a defect related to motor vehicle safety. The petition is hereinafter identified as DP01-003.

FOR FURTHER INFORMATION CONTACT: Mr. Robert Squire, Office of Defects Investigation (ODI), NHTSA, 400 Seventh Street, SW., Washington, DC 20590. Telephone 202-493-0212.

SUPPLEMENTARY INFORMATION: Mr. James J. Johnston, President of the Owner-Operator Independent Drivers Association, Inc. (OOIDA), submitted a petition to NHTSA by letter dated March 21, 2001, requesting that an investigation be initiated to determine whether to issue an order concerning safety defects in model year 1989 through 2000 Volvo heavy trucks (subject trucks). The petition is extremely broad in that the petitioner alleges multiple defects on more than 30 models of Volvo trucks produced over a span of 12 model years.

The petition identified alleged deficiencies in nine areas. Those areas were identified as: (1) Shaking and vibration in the front end; (2) steering problems; (3) premature front tire wear; (4) wheel alignment problems; (5) problems with axle parts, including an overweight condition on the steering axle; (6) suspension problems; (7) transmission and clutch problems; (8) problems with the engine, including unintended “racing” or “shutting down,” and (9) electrical problems.

The OOIDA petition and subsequent information forwarded to the NHTSA Office of Defects Investigation (ODI) contained complaints from 180 persons. A review of the ODI database for additional complaints pertaining to the alleged defects on the subject trucks revealed an additional 41 complainants. Many of the complainants cited multiple problems with one or more subject trucks. To assist with evaluation of the petition, ODI staff communicated directly with approximately 74 persons, including representatives of 13 fleet operations.

Review of the OOIDA and ODI data revealed that approximately 92% of the complaints involved model year 1995 and newer subject trucks. Eighteen complaints involved model year 1994 subject trucks, while 11 complaints involved model year 1993 and older subject trucks. Unfortunately, many complaints failed to identify the vehicle model, model year and/or vehicle identification number. Although this lack of information hampered the analysis, data from these complaints were nonetheless reviewed to the fullest extent possible.

After conducting an extensive review of the issues raised in the petition, NHTSA has granted it with respect to the following issues:

1. Alleged steering defects on model year 1998 through 2000 VN-610, 660, and 770 series trucks regarding “lock up,” “binding,” or “pulling” of the steering system. An investigation has been opened (PE01-041).

2. Alleged front axle component failure regarding steer axle U-bolts on model year 1998 through 2000 VN-610, 660, and 770 series trucks. An investigation has been opened (PE01-042). An alleged defect with respect to the drive or rear axle U-bolts was previously under way (EA01-011).

The allegations regarding the scope of Volvo's recall to address front axle overweight conditions on model year 1998 through 2001 VN-series trucks is being addressed through a Recall Audit (AQ02-018).

It is unlikely that NHTSA would issue an order for the notification and remedy of the other alleged defects as defined by the petitioner for the subject vehicles at the conclusion of the investigation requested in the petition. Therefore, in view of the need to allocate and prioritize NHTSA's limited resources to best accomplish the agency's safety mission, the petition is denied with respect to the remaining allegations. However, information obtained by the agency during its evaluation of the petition has led it to open an investigation with respect to alleged electrical problems potentially leading to fires in the sleeper berth of model year 1998 through 2000 VN-610, 660, and 770 series trucks. An investigation has been opened (PE01-040).

A description of NHTSA's analysis of the issues raised by the petition and the reasons for its decisions are set forth in an Addendum to this notice.

Authority: 49 U.S.C. 30162(d); delegations of authority at CFR 1.50 and 501.8.

Issued on: April 1, 2002.
Kenneth N. Weinstein,
Associate Administrator for Safety Assurance.

DP01-003 Addendum

In March 2001, the Owner-Operator Independent Drivers Association, Inc., (OOIDA) petitioned the National Highway Traffic Safety Administration (NHTSA) to investigate numerous alleged defects on all Volvo truck tractors manufactured between the years of 1989 and 2000. The complaints provided in the OOIDA petition and those extracted from the NHTSA database were often vague and provided few details to assist with conclusively identifying an allegedly defective component. The petition itself was extremely broad and appeared to cover almost every system on the subject trucks.

Evaluation of the petition involved the review of information provided by approximately 180 complaints submitted by OOIDA on behalf of Volvo truck owners. Complaints from an additional 41 (non duplicate) complainants contained within the NHTSA database were likewise reviewed. Since July 1, 2001, no additional complaints have been received through OOIDA; however, individual owners have contacted the Office of Defects Investigation (ODI) directly. ODI staff interviewed a total of 74 individuals, including 13 fleet ¹ representatives, by telephone. These individual contacts increased the original number of complainants by 64 for a total of 285.² Some complainants owned more than one truck (not counted as a fleet).

¹ Fleet sizes ranged from 5 to 500 vehicles. See contact sheet in DP01-003.

² Not all owners interviewed had complaints nor were they dissatisfied with their vehicle.

The petition claimed that the problems spanned twelve model years, 1989 through 2000. Review of the complaints, however, revealed that most involved recent model year (MY) trucks, MY 1994 and newer. Vehicle model and model year could not be identified for approximately 4% of the complaints. The table below illustrates the percent of complaints within various vehicle model year ranges.

The OOIDA petition divided the complaints into nine general categories: Vibration (front-end); Steering; Premature front tire wear; Wheel alignment; Axle (components and gross axle weight); Suspension; Transmission (clutch); Engine; and Electrical. The table below illustrates the source of each complaint alleged within each area.

Additional information regarding each complaint area is provided below. A breakdown by vehicle model and model year is also provided for each complaint area.

Complaint 1—Shaking and vibration through the front of the truck (36 complaints). Although this was a recurring complaint, analysis of the written complaints and telephone interviews failed to establish a specific causal factor. Although “front end” vibration was referred to in the OOIDA petition, interviews revealed that vibration complaints also included the driveline and rear axles. Interviews with individual owners illustrated that this complaint was subjective in nature and often was dependant upon the driver's expectations. Fleet operators tended to have fewer complaints than owner/operators and specifically noted that they tended to adhere to regular maintenance schedules. The majority of complaints involved tractors with integral sleeper berth units.

A complaint of front-end vibration frequently accompanied a report of excessive front axle weight and/or premature front axle tire wear. There was no indication that this condition rendered the vehicle uncontrollable or created a significant risk to safety. No further action on this issue will be taken.

Complaint 2—Steering deficiencies (24 complaints). Some recurring problems with the steering system on model year 1998 and newer trucks were alleged. The OOIDA petition alleged that Volvo trucks were prone to steering problems and cited 45 complaints related to “steering.” In addition, “excessive sway” and “road wander” were terms used to describe a steering deficiency. Unfortunately, detailed information was lacking in many of the complaints. Analysis of the complaints revealed a total of 24 complaints with sufficient information to indicate a potential problem related to the steering system (this total excludes one fleet that reported problems with multiple vehicles).³ In all but two cases, the problems involved VN-model trucks. A majority of the complaints involved the 770 model, Volvo's heaviest tractor. In addition to the VN-models, two complaints regarding the WIA model were received, one from a MY 1996 vehicle and one from a MY 1997 vehicle. The complaints noted one of several symptoms, including: steering wheel or shaft binding, steering lock-up, steering “pull,” and steering gear box leak or failure. The table below provides a summary of these complaints.

³ The fleet representative stated that this occurred on “several” vehicles, but was unable to provide specific vehicle information at the time of the conversation.

The evaluation of steering complaints also led to contact with an engineering firm that reportedly has investigated approximately 11-12 collisions involving VN-series trucks where a steering defect is suspected. In addition to speaking with a representative of the engineering firm, 18 of the “steering problem” complainants were contacted.

An investigation of this issue has been opened.

Complaint 3—Premature tire wear (118 complaints). This complaint was the predominant recurring issue. Nearly all the complainants were owner-operators, with one fleet operator reporting tire wear problems with the steering axle tires. Most complainants generally reported 50,000 to 80,000 miles of operation before tire replacement was necessary. Many complainants reported unusual “cupping,” scalloping,” or edge wear. In a majority of cases owners blamed heavy front-end weight for the wear. In March 2001, Volvo initiated a recall (NHTSA #01V-093) to address the front axle weight problem. Evaluation of the OOIDA petition failed to identify a representative number of vehicles that had undergone repairs per recall 01V-093 to assess whether the remedy improved tire wear. The issue of the scope of that recall is being considered in a Recall Audit (AQ02-018). Tire wear was cited not as a safety issue, but one of economics. Owners reported that tire purchases tended to be one of the most costly recurring expenses they faced.

In view of the apparent lack of a safety issue, no further action on this issue will be taken.

Complaint 4—Wheel alignment problems (52 complaints). Although there were a few complaints that wheel alignment could not be maintained, few specifics were provided to indicate a probable cause. Alignment complaints typically coincided with tire wear and front axle weight distribution complaints. In some situations where owners reported alignment problems, they also reported problems with axle U-bolts. In many cases the U-bolts were found to be loose or fractured at the time the wheel alignment was performed. In the interviews conducted by ODI staff, only four (4) complainants reported having difficulty keeping the vehicle “in alignment.” A substantial number of complainants reported having repeated alignment procedures completed in an attempt to correct problems with steer axle tire wear or vibration. These complainants reported no problem with the vehicle retaining alignment. Although complainants frequently equated poor alignment with tire wear and “lane drift” or “road wander,” the issue of “alignment” did not appear to raise safety concerns. Complainants reported having full control of their vehicles, and no crashes or injuries were reportedly related to this issue. No further action on this issue will be taken.

Complaint 5—Axle problems (238 complaints, total). This complaint area was divided into two parts. One area focused solely on (A) axle components and the other on (B) steer axle weight. The OOIDA petition alleged that Volvo trucks were prone to failure of axle components, thereby increasing the risk of a crash and compromising safety. Analysis of the complaints indicated that the only axle parts subject to alleged failures were the axle U-bolts and steer axle wheel bearings.

(A1) Axle Component: U-Bolt (22 complaints). A review of the OOIDA petition and NHTSA database at the time the petition was submitted revealed a total of 10 complaints alleging defective axle U-bolts, primarily on model year 1995 through 2000 Volvo trucks. Specific models mentioned included the WIA and VN-series trucks. During the petition evaluation, twelve (12) additional complainants alleging defective axle U-bolts were identified and interviewed. These complaints all involved the VN-series truck.

During the petition evaluation, it was observed that the occurrence rate for failure or problem with the front axle U-bolts exceeded that of the drive axle. Drive axle U-bolt failure is currently the subject of an Engineering Analysis, EA01-011. The scope of this investigation involves the drive axle U-bolt assemblies on model year 1996 through 2000 Volvo trucks.

Several complainants alleging defective U-bolts were interviewed during the petition evaluation. Most complained of a recurrent loosening of the U-bolts, with eventual fracturing. Statements provided by some complainants suggested that loosening of the U-bolt is a precursor to failure. Some complainants reported hearing a “popping” or “clunking” noise, particularly during turning maneuvers. Subsequent inspection frequently revealed loose steer axle U-bolts. The Volvo owner's manual guide to service recommends checking the torque of the U-bolts at 15,000-mile intervals. Nearly all complainants reported never experiencing loose U-bolt conditions with other vehicle makes.

U-bolt failure can lead to a displacement of the axle and increase the potential for a crash. At least one incident of steer axle U-bolt failure allegedly led to a crash. James Gardiner reported that while operating at highway speed, his truck unexpectedly veered to the right, departed the highway, and overturned. A post-collision inspection revealed a fractured right steer axle U-bolt. Gardiner believes that the fracturing of the U-bolt resulted in a rearward displacement of the steer axle on the right side. He believes this caused the vehicle to depart the highway.

Available information indicates that nearly all U-bolt complaints and failures involve MY 1998 through 2000 VN series trucks. An investigation of this issue with respect to those vehicles has been opened.

(A2) Steering Axle Wheel Bearings (106 complaints). A review of the OOIDA petition and NHTSA database at the time the petition was submitted revealed a total of 106 complaints alleging defective steer axle wheel bearings. The complaints involved model year 1998 through 2000 VN 610, 660, and 770 models with only one complaint outside this range, a model year 1994 WIA.

Complainants alleging wheel bearing failure described one of several symptoms. Symptoms included loose wheel bearings at the time of vehicle delivery, accelerated wear, and/or complete failure leading to the loss of a wheel. Of the 106 complaints, 103 originated with a single fleet, so there were only four different complainants.

Even though many of the complainants contacted during the petition evaluation did not complain of steer axle wheel bearing failure, they did report recurrent front-end work to correct tire wear problems. Most reported repeated procedures involving removal of the wheel and/or retorquing of the wheel bearings.

Consultation with local Volvo service managers and technicians failed to reveal any additional information or acknowledgement of problems. In a worst-case scenario, the failure of a steer axle wheel bearing can result in wheel separation and the potential for a crash. However, no crashes, injuries, or fatalities have been reported involving bearing failure on these Volvo trucks. Volvo trucks exhibited no previous recalls or investigations related to this issue.

The available information does not warrant opening an investigation of this issue at this time.

(B) Steering Axle Weight (110 complaints). The OOIDA petition alleged that Volvo trucks were prone to an overweight condition on the steer axle. Evaluation of the complaints revealed that with few exceptions, this complaint typically involved the newer VN series trucks. An overwhelming majority of the complaints involved the 770 model, Volvo's largest tractor with an integral sleeper. Complaint review, personal interviews and field studies have revealed, however, that model series 610 and 660 vehicles are also often operated in an overweight condition.

A total of 110 complaints alleging an overweight condition on the front axle were reviewed. The OOIDA petition had listed 66 individual complaints of a steer axle overweight condition. Unfortunately, many of the OOIDA complaints contained few specifics regarding the interpretation of “overweight.” ODI contacted 47 complainants who specifically noted that the actual axle weight exceeded the front axle weight rating (GAWR—gross axle weight rating). These complainants reported that the actual axle weight ranged from 12,400 to 13,500 pounds. For most vehicles the front GAWR was 12,350 pounds. A total of 17 complainants provided copies of scale tickets exhibiting an overweight condition.

Review of the complaint documents and personal interviews with owners revealed differing interpretations for defining an overweight condition on the steer axle. Many owners tended to define an ideal weight condition based upon past experience or the restrictions of individual states. Many owner/drivers reported the desire to keep the front axle weight below 12,000 pounds and defined an overweight condition as any weight in excess of this number. Regarding state highway restrictions, five states⁴ reportedly restrict the gross front axle weight to 12,000 pounds.

⁴ According to the 2001 edition of Transport Topics Size & Weight Update (American Trucking Associations), the following states restrict the gross front axle weight to 12,000 pounds—Alabama, Arizona, Arkansas, California, and Kentucky. Some states impose additional restrictions limiting tire gross weight to the product of a specified number of pounds per inch of tread width.

Federal regulations require the manufacturer to install a label specifying the GAWR. The GAWR should not exceed the weight rating of the weakest individual axle component, including the tires. According to Volvo, the GAWR is based on the component with the lowest load capacity inclusive of the tires, wheels, suspension, brakes, and other axle components. In most cases the GAWR is equal to the tire load capacity. Through a review of the complaints and conversations with owners, front axle gross weight ratings specified on the Federal label exhibited a range between 11,620 and 12,350 pounds.

In April 2001, Nick Barber petitioned NHTSA concerning the adequacy of Volvo's actions with respect to Recall 01V-093 ⁵ (DP01-006). This petition challenges the effectiveness and scope of recall 01V-093 and alleges other problems with regard to establishing the weight distribution on VN model trucks. Since filing his petition with NHTSA, Mr. Barber has provided information on approximately 100 trucks (including having owners contact NHTSA directly). It was through these contacts that the overweight issue was more precisely defined. All of the “confirmed” overweight cases involved VN 610, 660, and 770 model trucks. Overweight complaints existed across all three model lines; however, the 770 models exhibited the greatest number of complaints.

⁵ In March 2001, Volvo initiated recall RVXX0103 (NHTSA 01V-093), applicable to 1,577 VN model trucks, stating that “under certain operating conditions, the weight certification label which contains the front GAWR information . . . does not accurately reflect the actual front gross axle weight.” The recall involves trucks manufactured between 11/22/97 and 08/28/99.

Volvo states that the front axle weight should be measured with the vehicle fully fueled and in a bobtail (no trailer) configuration. Allowances are also made for the driver and personal cargo. Some of the “overweight” vehicles were weighed with trailers and/or auxiliary equipment installed on the tractor.

Nearly all complainants reported that when the tractor is coupled to a trailer under any load, the 5th wheel must be at the full aft position to maintain a front axle weight less than the GAWR. Some drivers complained, however, that the “full aft” 5th wheel position creates additional problems. They cite the large gap between the tractor and trailer as being responsible for decreased fuel efficiency. The use of only one position on a moveable 5th wheel also negates the advantage of moving the coupler to further distribute axle loads. Volvo contends that the addition of auxiliary equipment (tools boxes, cab protection devices, generators, etc.) could increase the front axle weight and therefore discourages and accepts no responsibility if such additions are made. Owners, however, have stated that some installation of the auxiliary equipment is performed or facilitated by the dealer. In other instances, owners report that they informed the dealer of the additions at the time of purchase.

NHTSA granted DP01-006 after evaluating the issues raised in that petition and has opened a Recall Audit (AQ02-018).

Complaint 6—Suspension problems (12 complaints). This issue involves many of the same issues raised in the axle component complaints. Most complaints also cited vibration, alignment, and premature steer axle tire wear as being suspension related. Regarding this issue, no failed components, other than axle U-bolts, were identified. As such, no specific suspension problems were identified. The number of complaints citing suspension problems is tallied in the table below. No further action on this issue will be taken.

Complaint 7—Transmission and clutch problems (20 complaints). There were a few complaints of transmission failure; however, all but one of the owners interviewed reported that the transmission was replaced under warranty. Two owners complained of difficulty with shifting and another reported that the transmission shifted into the wrong gear. Two owners complained of the transmission overheating. None of the transmission complaints indicated that the situation presented a recurring safety hazard. There were no reports of collisions or injuries related to this issue.

Regarding clutch complaints, most complainants reported premature wear requiring expensive replacement. Other complaints noted that the clutch required repeated adjustment. None of the complaints indicated that a hazard to safety existed. No further action on this issue will be taken.

Complaint 8—Engine defects (5 complaints). Very few complaints alleged engine problems and none exhibited any trend that could be considered a hazard to safety. The OOIDA petition specifically noted unexpected “acceleration” and “shut down” (stalling) as issues of contention. One complaint noted the occurrence of engine “rev up” while at idle while most of the engine problems cited poor wiring connections leading to difficult starting or rough idle. No trend regarding engine problems was observed. No further action on this issue will be taken.

Complaint 9—Electrical defects (65 complaints). A substantial number of complaints noted “electrical problems.” Of the OOIDA petition complaints that contained specific information, most defined electrical problems with the “instrumentation” or “dash.” These issues were analyzed in greater detail through vehicle owner and truck service center interviews. Nearly all instrument problems appeared to be related to the “SmartDash” or vehicle management display and instrument panel lighting.

The SmartDash component at issue is a small LCD screen located on the instrument panel that displays a range of information to the driver. The unit provides information such as miles per gallon, trip time, axle and coolant temperature, diagnostic fault codes, and other information. Volvo representatives have acknowledged that the display screen on model year 1998 through 2000 vehicles is subject to failure. They report that a quality control problem with the vendor necessitated a change in the unit's design and construction (new vendor). Volvo identifies this unit as an accessory item and notes that all crucial gauges are duplicated in analog form elsewhere on the dash. This complaint was common among both individual and fleet owners and comprised about 38% of the complaints expressed through telephone interviews.

Instrument panel lighting was another recurring electrical-related complaint. Regarding this complaint, many owners, including at least three fleets, reported recurrent problems with instrument panel lighting prematurely “burning out” or experiencing poor electrical connections. This problem was cited in approximately 11% of the complaints expressed through telephone interviews. None of the complainants reported simultaneous failure of all instrument lighting. They complained that lamp replacement was needed every other month or so. Some complainants also noted that the lamps exhibited poor or loose connections.

Analysis of electrical problems revealed allegations of six (6) fires involving model year 1998 through 2001 VN series tractors with four (4) fires, potentially electrical in origin (one involving just smoke), originating in the sleeper compartment.

The four (4) sleeper berth fires involved VN 610 and 660 models. In each case fire investigators identified the fire's origin in the proximity of electrical wiring, with three cases originating near the sleeper ventilation control panel. Unfortunately, the exact cause of the fire was not determined although electrical short-circuiting was indicated as a possible source. The sleeper berth of the VN-series truck is equipped with an individual heating and air conditioning blower located below the lower bunk and just right of the center of the vehicle. A controller unit used to adjust HVAC temperature and blower fan speed is located on the left side wall of the berth about midway between the ceiling and floor. At least three (3) fires reportedly originated in the area of this control panel.

The two remaining fire complaints involved a 2001 VN-610 and a 1998 VN-770. Investigation of the VN-610 fire failed to reveal the exact origin of the fire although the investigator believed it began in the vehicle's engine compartment. The VN-770 fire reportedly began in the dash wiring due to a faulty “dimmer switch.” Limited information was available regarding these two incidents. Complaints regarding fire and electrical problems in the sleeper berth appear to contain similar elements that warrant additional analysis.

Other than the sleeper berth fires, no trends were observed indicating a potential safety defect trend. An investigation into the sleeper berth fires has been opened.

ODI has compared the number of complaints regarding Volvo trucks with the number of complaints about similar problems on other makes of other heavy trucks. The comparison was limited to the complaint areas noted in the OOIDA petition. The table below compares the total number of Volvo truck complaints (all sources) against the complaints in the ODI database for other manufacturers' vehicles. Prior to the OOIDA petition, the total number of Volvo truck complaints recorded in the database was approximately 190.

Analysis of the information made available through and as a result of the petition supports a conclusion that this petition should be partially granted and partially denied. The petition is granted with respect to three areas of concern—(1) steering problems, (2) front axle U-bolt problems and (3) sleeper berth fires. Additionally, the issue of steering axle overweight condition is being addressed through Recall Audit AQ02-018 while an issue pertaining to drive axle U-bolts is being investigated in an Engineering Analysis, EA01-011. No further action will be taken with respect to the remaining issues raised by the petition.

[FR Doc. 02-8520 Filed 4-8-02; 8:45 am]

BILLING CODE 4910-59-P